DEPARTMENT OF VETERANS AFFAIRS

Fund Availability Under VA Homeless Providers Grant and Per Diem Program

AGENCY: Department of Veterans Affairs.

ACTION: Notice.

SUMMARY: The Department of Veterans Affairs (VA) is announcing the availability of funds for applications for assistance under the Technical Assistance Grant component of VA's Homeless Providers Grant and Per Diem Program. This notice contains information concerning the program, application process, and amount of funding available.

DATES: An original completed and collated grant application (plus three completed collated copies) for assistance under the VA's Homeless Providers Grant and Per Diem Program must be received in the Grant and Per Diem Field Office, by 4 p.m. Eastern Time on April 4, 2007. Applications submitted through Grants.gov will be the only electronic format accepted. Applications may not be sent by facsimile (FAX) or other electronic means (e-mail). In the interest of fairness to all competing applicants, this deadline is firm as to date and hour, and VA will treat as ineligible for consideration any application that is received after the deadline. This includes applications through Grants.gov. Applicants should take this practice into account and make early submission of their material to avoid any risk of loss of eligibility brought about by electronic transmission problems, unanticipated delays or other delivery-related problems.

For a Copy of the Application Package: Download directly from VA's Grant and Per Diem Program Web page at: http://www.va.gov/homeless/page.cfm?pg=3 or call the Grant and Per Diem Program at (toll-free) 1-877-332-0334. In this package is information on Grants.gov submission should applicants so desire. For a document relating to the VA's Homeless Providers Grant and Per Diem Program, see the Final Rule codified at 38 CFR Part 61.0.

Submission of Application: An original completed and collated grant application (plus three copies) must be submitted to the following address: VA Homeless Providers Grant and Per Diem Field Office, 10770 N. 46th Street, Suite C-200, Tampa, FL 33617. Applications must be received in the Grant and Per Diem Field office by the application deadline. This includes applications submitted through Grants.gov. Applications must arrive as a complete package. Materials arriving separately will not be included in the application package for consideration and may result in the application being rejected or not funded.

FOR FURTHER INFORMATION CONTACT: Dr. Guy Liedke, VA Homeless Providers Grant and Per Diem Program, Department of Veterans Affairs, 10770 North 46th Street, Suite C-200, Tampa FL 33617; (toll-free) 1-877-332-0334.

SUPPLEMENTARY INFORMATION: This notice announces the availability of funds for assistance under VA's Homeless Providers Grant and Per Diem Program for eligible non-profit entities with expertise in preparing grant applications relating to the provision of assistance for homeless veterans to: Provide technical assistance to those non-profit community-based groups with experience in providing assistance to homeless veterans in order to help such groups apply for grants under the Final Rule, published in the Federal Register, September 26, 2003, or to apply for other grants from any source for addressing the problems of homeless veterans.

The Veterans Benefit, Health Care and Information Technology Act of 2006, Public Law 109-461, § 703 and § 707 respectively, authorizes this program. Funding applied for under this notice may be used for: (a) Group or individual seminars providing general instructions concerning grant applications; (b) Group or individual seminars providing instructions for applying for a specific grant; or (c) Group or individual instruction for preparing analyses to be included in a grant application. Seminars (course of instruction) may be delivered in electronic, face-to-face and correspondence methodologies (e.g., Internet-based training, video teleconferencing, computer media such as CD or disk).

Entities that are interested in providing technical assistance should be aware that historically the Grant and Per Diem Program office receives over 1,200 nationwide inquiries per Notice of Fund Availability (NOFA) from prospective applicants. It is estimated that an additional 1,000 inquiries are received nationwide at VA Medical Center Homeless Programs. From these inquiries, VA has seen an increase in the number of applicants each year. Approximately 100 to 300 applications per funding round have been received in past responses to (NOFAs under VA's Homeless Providers Grant and Per Diem Program. Additionally, faith-based organizations that are capable of providing supported housing and/or supportive service center services for homeless veterans have figured prominently into the mix of non-profit organizations seeking funding. Those entities applying to provide technical assistance should consider not only the numbers, but the diversity of the service providers seeking assistance when establishing their service plans.

The applicant for this funding will be expected to develop an integrated technical assistance plan, using funds for purposes as specified in this NOFA, the objectives of the program rules and regulations, as well as the intent of Public Law 107-95 to offer technical assistance to agencies in their-specified target area. Applicants should take note that they will be held accountable to provide to VA documentation that demonstrates the objectives of technical training are being met throughout the course of the award cycle, and documentation that clearly demonstrates the completion of technical assistance objectives were met, cumulatively, at the end of the funding period. Also, VA intends to conduct both periodic fiscal and performance reviews of the awarded agency(s).

The technical assistance should not only raise the awareness of providers regarding the availably of funds to assist homeless veterans, but also increase providers' proficiency in applying for and managing funds to assist homeless veterans. Applicants should take the aforementioned into consideration when developing a technical assistance plan. Outcomes measure that are specific and measurable should be an integral part of the technical assistance plan that is submitted in the application.

Grant applicants may not receive assistance to replace funds provided by any State or local government for the same purpose.

Authority: VA's Homeless Providers Grant and Per Diem Program and Special Need Grant are authorized by Public Law 109-461, § 703 and § 707 respectively, the law is known as the Veterans Benefit, Health Care and Information Technology Act of 2006, codified at 38 U.S.C. 2011, 2012, 2061, 2064. The program is implemented by the Final Rule codified at 38 CFR Part 61.0. The Final Rule was published in the Federal Register on September 26, 2003, the regulations can be found in their entirety in 38 CFR 61.0 through 61.82. Funds made available under this Notice are subject to the requirements of those regulations.

Allocation: Approximately $2 million is available for the technical assistance grant component of this program. Funding will be for a period not to exceed 2 years from the date of award. Not more than $500,000.00 per year per technical assistance provider will be awarded.

Funding Priorities: With increased oversight of grantees in the VA Grant and Per Diem Program, as well as all Federal programs, it is imperative that when preparing grant applications, potential applicants are provided technical assistance on what is necessary to ensure proper compliance with the grant application as written. In order to target specific voids of information as related by past Grant and Per Diem applicants, VA establishes the following funding priorities:

Funding priority 1. Eligible entities that will provide all of the following specific technical assistance activities annually in the quantity indicated or greater per year will be placed in funding priority one.

The activities are:

(a) 25 national presentations to potential grantees with regard to providing measurable objectives;

(b) 25 one-on-one project planning sessions that are consistent with the ability of the grantee to meet their objectives and deliver the housing and or services as stated in their grant applications;

(c) 12 on-site grant management systems reviews with emphasis on proper grant project outcome documentation; and

(d) 25 national presentations to non-profit grantees and potential grantees regarding Office of Budget and Management (OMB) grant management circulars.

With this criteria, of those eligible entities in the first funding priority that are legally fundable, the highest scoring applicant will be funded first, followed by the second highest scoring applicant until $2 million is funded. Of this group, not more than one (1) Technical assistance grant will be awarded to the same technical assistance recipient (defined by tax identification number). Using the guidance above, should the goal not be met and if funding is still available, remaining funding will go to the second funding priority.

Funding priority 2. Should funding still be available, eligible entities providing general technical assistance activities as stated in the regulations will be placed in the second funding priority. Of this group, not more than one (1) Technical assistance grant will be awarded to the same technical assistance recipient (defined by tax identification number). Of those eligible entities in the second funding priority, that are legally fundable, the highest scoring applicants will be funded first until funding is expended.

Application Requirements: The specific grant application requirements will be specified in the application package. The package includes all required forms and certifications. Selections will be made based on criteria described in the application. Applicants who are selected will be notified of any additional information needed to confirm or clarify information provided in the application. Applicants will then be notified of the time in which to submit such information. If an applicant is unable to meet any conditions for grant award within the specified time frame, VA reserves the right to not award funds and to use the funds available for other Grant and Per Diem applicants.

Dated: February 16, 2007.
R. James Nicholson,
Secretary of Veterans Affairs.

[FR Doc. E7-3020 Filed 2-21-07; 8:45 am]

BILLING CODE 8320-01-P